DEPARTMENT OF HEALTH AND HUMAN SERVICES

Centers for Disease Control and Prevention

Statement of Organization, Functions, and Delegations of Authority

Part C (Centers for Disease Control and Prevention) of the Statement of Organizations, Functions, and Delegations of Authority of the Department of Health and Human Services (45 FR 67772-76, dated October 14, 1980, and corrected at 45 FR 69296, October 20, 1980, as amended most recently at 65 FR 68144, dated November 14, 2000) is amended to revise the functional statement of the Division for AIDS, STD, and TB Laboratory Research (DASTLR), National Center of Infections (NCID).

Section C-B, Organization and Functions, is hereby amended as follows:

Delete the functional statement for the Division of AIDS, STD and TB Laboratory Research (HCRN) and insert the following:

Division of AIDS, STD and TB Laboratory Research (HCRN). (1) Develops and evaluates laboratory methods and procedures for the diagnosis and characterization of infections caused by human immunodeficiency virus (HIV) and other retroviruses, other sexually transmitted diseases (STDs), and mycobacteria including Mycobacterium tuberculosis; (2) provides laboratory support for the surveillance, epidemiologic, and clinical activities of the National Center for HIV, STD, and TB Prevention (NCHSTP); (3) conducts applied research on the pathogenesis of and the immune mechanisms that occur in microbial infections; (4) conducts laboratory studies of hemophilia and other coagulating disorders; (5) provides reference laboratory services and assists in standardizing and providing laboratory reagents; (6) serves as a World Health Organization Collaborating Center; (7) conducts epidemiologic studies of HIV-infected and uninfected persons with hemophilia and their families; (8) assists in designing, implementing, and evaluating prevention and counseling programs for HIV-infected persons with hemophilia and their families; and (9) coordinates research on opportunistic infections occurring in HIV-infected persons.

Dated: November 15, 2000.
Jeffrey P. Koplan,
Director.

[FR Doc. 00-30217 Filed 11-27-00; 8:45 am]

BILLING CODE 4160-18-M